DEPARTMENT OF THE TREASURY

Submission for OMB Review; Comment Request

October 19, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 26, 2004, to be assured of consideration.

Internal Revenue Service (IRS)

OMB Number: 1545-0710.

Form Number: IRS Forms 550, 5500-C/R and Schedules (1998 Version).

Type of Review: Revision.

Title: Annual Return/Report of Employee Benefit Plan, Return/Report of Employee Benefit Plan and Associated Schedules.

Description: Forms 5500 and 5500-C/R are annual information returns filed by Employee Benefit Plans. The IRS uses this information to determine if the plan appears to be operating properly as required under the law or whether the plan should be audited.

Respondents: Business of other for-profit.

Estimated Number of Respondents/Recordkeepers: 2,000.

Estimated Burden Hours Respondent/Recordkeeper
Form/Schedule | Recordkeeping | Learning about the law or the form | Preparing the form | Copying, assembling, and sending the form to the IRS
5500-C (initial filers) | 55 hr., 33 min | 7 hr., 23 min | 10 hr., 29 min. | 32 min
5500-C (all other filers) | 45 hr., 41 min | 7 hr., 23 min | 10 hr., 19 min. | 32 min
5500-R (initial filers) | 22 hr., 29 min | 3 hr., 49 min | 6 hr., 13 min | 32 min
5500-R (all other filers) | 12 hr., 40 min | 3 hr., 39 min | 6 hr., 3 min | 32 min
Schedule A | 17 hr., 28 min | 28 min | 1 hr., 42 min | 16 min
Schedule B—Part 1 | 30 hr., 37 min | 3 hr., 16 min | 3 hr., 55 min |
Schedule B—Part 2 | 15 hr., 19 min | 1 hr., 23 min | 1 hr., 42 min |
Schedule E (nonleveraged ESOP) | 1 hr., 12 min | 12 min | 13 min |
Schedule E (leveraged ESOP) | 10 hr., 2 min | 1 hr., 41 min | 1 hr., 56 min |
Schedule F | 2 hr., 52 min | 30 min | 34 min |
Schedule G | 15 hr., 4 min | 6 min | 21 min |
Schedule P | 1 hr., 55 min | 30 min | 33 min |
Schedule SSA | 5 hr., 30 min | 6 min | 11 min |

Frequency of response: Annually.

Estimated Total Reporting/Recordkeeping Burden: 60,796 hours.

OMB Number: 1545-1384.

Form Number: IRS Form 3911.

Type of Review: Extension.

Title: Taxpayer Statement Regarding Refund.

Description: If a taxpayer inquires about their nonreceipt of refund (or lost or stolen refund) and the refund has been issued, the information and taxpayer signature are needed to begin tracing action.

Respondents: Individuals or households, Business or other for-profit, Not-for-profit institutions.

Estimated Number of Respondents/Recordkeepers: 520,000.

Estimated Burden Hours Respondent/Recordkeeper: 5 minutes.

Frequency of response: On occasion.

Estimated Total Reporting/Recordkeeping Burden: 43,160 hours.

OMB Number: 1545-1629.

Form Number: IRS Form 8867.

Type of Review: Revision.

Title: Paid Preparer's Earned Income Credit Checklist.

Description: Form 8867 helps preparers meet the due diligence requirements of Code section 6695(g), which was added by section 1085(a)(2) of the Taxpayer Relief Act of 1997. Paid preparers of Federal income tax returns or claims for refund involving the earned income credit (EIC) must meet the due diligence requirements in determining if the taxpayer is eligible for the EIC and the amount of the credit. Failure to do so could result if a $100 penalty for each failure. Completion of form 8867 is one of the due diligence requirements.

Respondents: Business or other for-profit.

Estimated Number of Respondents/Recordkeepers: 1,100,000.

Estimated Burden Hours Respondent/Recordkeeper
Learning about the law or the form | 12 min.
Preparing the form | 25 min.

Frequency of response: Annually.

Estimated Total Reporting/Recordkeeping Burden: 8,535,816 hours.

OMB Number: 1545-1752.

Revenue Procedure Number: Revenue Procedure 2001-42.

Type of Review: Extension.

Title: Modified Endowment Contract Correction Program Extension.

Description: This revenue procedure allows issuers (life insurance companies) to remedy inadvertent non-egregious failures to comply with the modified endowment rules set forth in section 7702A of the Internal Revenue Code.

Respondents: Business of other for-profit.

Estimated Number of Respondents: 10.

Estimated Burden Hours Respondent: 100 hours.

Frequency of response: On occasion.

Estimated Total Reporting Burden: 1,000 hours.

OMB Number: 1545-1885.

Announcement Number: Announcement 2004-46.

Type of Review: Revision.

Title: Son of Boss Settlement Initiative.

Description: The collected information is required to apply the terms of the settlement set forth in the announcement. The information will be used to determine whether the taxpayer has reported the disclosed item properly for income tax purposes.

Respondents: Business of other for-profit, Individuals or households.

Estimated Number of Respondents: 1,000.

Estimated Burden Hours Respondent: 5 hours.

Frequency of response: Other (one time).

Estimated Total Reporting Burden: 5,000 hours.

OMB Number: 1545-1895.

Revenue Procedure Number: Revenue Procedure 2004-46.

Type of Review: Extension.

Title: Relief from Late GST Allocation.

Description: This revenue procedure provides guidance to certain taxpayers in order to obtain an automatic extension of time to make an allocation of the generation-skipping transfer tax exemption. Rather than requesting a private letter ruling, the taxpayer may file certain documents directly with the Cincinnati Service Center to obtain relief.

Respondents: Individuals or households.

Estimated Number of Respondents: 50.

Estimated Burden Hours Respondent: 7 hours.

Frequency of response: On occasion.

Estimated Total Reporting Burden: 350 hours.

OMB Number: 1545-1898.

Revenue Procedure Number: Revenue Procedure 2004-47.

Type of Review: Extension.

Title: Relief from Ruling Process for Making Late Reverse QTIP Election.

Description: This revenue procedure provides alternative relief for taxpayers who failed to make a reverse QTIP election on an estate tax return. Instead of requesting a private letter ruling and paying the accompanying user fee the taxpayer may file certain documents with the Cincinnati Service Center directly to request relief.

Respondents: Individuals or households.

Estimated Number of Respondents: 6.

Estimated Burden Hours Respondent: 9 hours.

Frequency of response: Other (once for relief).

Estimated Total Reporting Burden: 54 hours.

Clearance Officer: R. Joseph Durbala (202) 622-3634, Internal Revenue Service, Room 6516, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 04-23936 Filed 10-25-04; 8:45 am]

BILLING CODE 4830-01-P